FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 26, 2003.

A. Federal Reserve Bank of St. Louis (Randall C. Sumner, Vice President) 411 Locust Street, St. Louis, Missouri 63166-2034:

1. Bale South Central Family Limited Partnership, Horse Cave, Kentucky; Bale South Central Family Trust, Horse Cave, Kentucky; as general partner and Thomas M. Bale, Cave City, Kentucky; Lester D. Bale, Horse Cave, Kentucky; William O. Bale, LaFollette, Tennessee; Ellen L. Bale, Glasgow, Kentucky; and Ruth H. Bale, Bowling Green, Kentucky; to acquire control of South Central Bancshares of Kentucky, Inc., Horse Cave, Kentucky, and thereby control First Deposit Bancshares, Inc., Tompkinsville, Kentucky, which controls South Central Savings Bank, FSB, Elizabethtown, Kentucky, and South Central Bank of Monroe County, Tompkinsville, Kentucky; United Central Bancshares, Inc., Bowling Green, Kentucky, which controls South Central Bank of Bowling Green, Inc., Bowling Green, Kentucky; First United Bancshares, Inc., Glasgow, Kentucky, which controls South Central Bank of Barren County, Inc., Glasgow, Kentucky; and South Central Bank of Daviess County, Inc., Ownesboro, Kentucky.

B. Federal Reserve Bank of Kansas City (James Hunter, Assistant Vice President) 925 Grand Avenue, Kansas City, Missouri 64198-0001:

1. Robert M. Alexander, Calhan, Colorado; to acquire control of Financial Services of the Rockies, and thereby indirectly acquire First National Bank of Colorado Springs, Colorado Springs, Colorado.

Board of Governors of the Federal Reserve System, December 5, 2003.
Robert deV. Frierson,
Deputy Secretary of the Board.

[FR Doc. E3-00513 Filed 12-9-03; 8:45 am]

BILLING CODE 6210-01-S